DEPARTMENT OF COMMERCE

Foreign-Trade Zones Board

[Docket 60-2008]

Foreign-Trade Zone 267—Fargo, ND Request for Manufacturing Authority CNH America, LLC (Construction and Agricultural Equipment)

An application has been submitted to the Foreign-Trade Zones Board (the Board) by the Fargo Municipal Airport Authority, grantee of FTZ 267, requesting authority on behalf of CNH America, LLC (CNH) to perform construction and agricultural equipment manufacturing under FTZ procedures within FTZ 267. The application was filed on October 23, 2008.

The CNH facilities (about 800 employees) consist of a manufacturing plant located at 3401 1st Avenue N. and a warehouse located at 3000 7th Avenue N., within the Midtown Industrial Complex (FTZ 267—Site 2). CNH could produce up to 4,000 construction wheel loaders (HTSUS 8429.51) and 7,200 agricultural tractors (8701.90) annually. Foreign-sourced components (representing about 30% of material value) that would be used in production include: Vehicle glass (HTSUS 7007.11), motor controls (8537.10), switches (8536.50), and transmissions (8483.40).

FTZ procedures would exempt CNH from customs duty payments on foreign components used in export production (estimated to be some 30 percent of the plant's shipments). On its domestic shipments, CNH could defer duty until the products are entered for consumption, and choose the duty-free rate that applies to the finished product for the foreign components used in production (duty rates ranging from 2.5% to 5.5%). The company may also realize certain logistical/procedural savings as well as savings on materials that become scrap/waste during manufacturing.

In accordance with the Board's regulations, Diane Finver of the FTZ staff is designated examiner to investigate the application and report to the Board.

Public comment is invited from interested parties. Submissions (original and 3 copies) shall be addressed to the Board's Executive Secretary at the address below. The closing period for their receipt is January 20, 2009. Rebuttal comments in response to material submitted during the foregoing period may be submitted during the subsequent 15-day period to February 2, 2009.

A copy of the application and accompanying exhibits will be available for public inspection at each of the following locations: U.S. Department of Commerce Export Assistance Center, 51 Broadway, Suite 505, Fargo, North Dakota 58102; and, Office of the Executive Secretary, Foreign-Trade Zones Board, Room 2111, U.S. Department of Commerce, 1401 Constitution Avenue, NW., Washington, DC 20230-0002.

For further information, contact Diane Finver at (202) 482-1367.

Dated: October 23, 2008.
Andrew McGilvray,
Executive Secretary.

[FR Doc. E8-27343 Filed 11-17-08; 8:45 am]

BILLING CODE 3510-DS-P